SECURITIES AND EXCHANGE COMMISSION

[Release Nos. 33-9049; 34-60260; File No. 265-25]

Investor Advisory Committee; Meeting

AGENCY: Securities and Exchange Commission.

ACTION: Notice of Meeting of SEC Investor Advisory Committee.

SUMMARY: The Securities and Exchange Commission Investor Advisory Committee is providing notice that it will hold a public meeting on Monday, July 27, 2009, in the Auditorium, Room L-002, at the Commission's main offices, 100 F Street, NE., Washington, DC. The meeting will begin at 10 a.m. (EST) and will be open to the public. The meeting will be webcast on the Commission's Web site at http://www.sec.gov. Persons needing special accommodations to take part because of a disability should notify a contact person listed below. The public is invited to submit written statements to the Committee.

The agenda for the meeting includes opening remarks, introduction of Committee members, discussion of Committee agenda and organization, and discussion of investor views of possible refinements to the disclosure regime.

DATES: Written statements should be received on or before July 19, 2009.

ADDRESSES: Written statements may be submitted by any of the following methods:

Electronic Comments

• Use the Commission's Internet submission form (http://www.sec.gov/rules/other.shtml); or

• Send an e-mail message to rule-comments@sec.gov. Please include File Number 265-25 on the subject line.

Paper Comments

• Send paper statements in triplicate to Elizabeth M. Murphy, Federal Advisory Committee Management Officer, Securities and Exchange Commission, 100 F Street, NE., Washington, DC 20549-1090.

All submissions should refer to File No. 265-25. This file number should be included on the subject line if e-mail is used. To help us process and review your statements more efficiently, please use only one method. The Commission staff will post all statements on the Advisory Committee's Web site (http://www.sec.gov/spotlight/investoradvisorycommittee.htm). Statements also will be available for public inspection and copying in the Commission's Public Reference Room, 100 F Street, NE., Washington, DC 20549, on official business days between the hours of 10 a.m. and 3 p.m. All statements received will be posted without change; we do not edit personal identifying information from submissions. You should submit only information that you wish to make available publicly.

FOR FURTHER INFORMATION CONTACT: Kayla J. Gillan, Deputy Chief of Staff, at (202) 551-2100; David Fredrickson, Assistant General Counsel, Office of the General Counsel, at (202) 551-5144; or Owen Donley, Chief Counsel, Office of Investor Education and Advocacy, at (202) 551-6322, Securities and Exchange Commission, 100 F Street, NE., Washington, DC 20549-6561.

SUPPLEMENTARY INFORMATION: In accordance with Section 10(a) of the Federal Advisory Committee Act, 5 U.S.C. App. 1, section 10(a), Kayla J. Gillan, Designated Federal Officer of the Committee, has approved publication of this notice.

Dated: July 8, 2009.
Elizabeth M. Murphy,
Committee Management Officer.

[FR Doc. E9-16503 Filed 7-10-09; 8:45 am]

BILLING CODE 8010-01-P